DEPARTMENT OF THE INTERIOR

Bureau of Land Management

[ID-084-1060-AE]

Notice of Road Restriction Order and Temporary Closure of Road and Challis Wild Horse Corrals Area, Custer County, ID, Order No. ID-084-33

AGENCY: Bureau of Land Management, Interior.

SUMMARY: Notice is given that the road to the Challis BLM Wild Horse Corrals, from where it leaves the county road (Upper Hot Springs Road) to the corrals, and the horse corrals and area immediately adjacent to the corrals, will be closed to the general public during the hours from 10 p.m. to 6 a.m. (MDST) daily beginning on August 19, 2002, and continuing through midnight on September 22, 2002. Members of the public may only travel on this road and enter the wild horse corral area during the closure hours with the written permission of and when accompanied by an authorized Bureau of Land Management employee. Persons with authorization to utilize the area by BLM regulations, contracts, leases or permits, may use the area described in accordance with those authorizations. Nothing in this closure affects the exercise of valid existing rights created by a contract, right of way, lease, permit or mining claim that is carried out in accordance with the regulations under which the rights were established.

FOR FURTHER INFORMATION CONTACT: Stephanie Snook at BLM UCSC District, 1808 N. Third St., Coeur d'Alene, ID, 83814 or call (208) 769-5004.

SUPPLEMENTARY INFORMATION: The one mile road closure and horse corrals are located in section 6, T. 13N., R. 20E., Boise Meridian, Idaho. A map depicting the closure area and road is available for public inspection at the Bureau of Land Management, Challis Field Office, located on Highway 93, Challis, Idaho.

The authority for establishing this restriction is contained in Title 43, Code of Federal Regulations, Subpart 8364, Section 1 (43 CFR 8364.1). This restriction does not apply to:

(1) Any federal, state or local government officer or member of an organized rescue or fire fighting force while in the performance of an official duty.

(2) Any Bureau of Land Management employee, agent, contractor, or cooperator while in the performance of an official duty.

This temporary road restriction and closure is necessary to protect members of the public, the wild horses and burros, and the facility. Wild horses are, by definition, not yet gentled and may pose a danger to members of the public.

Violation of this order is punishable by a fine not to exceed $1,000 and/or imprisonment not to exceed one year.

Dated: July 31, 2002.
Stephanie Snook,
Acting District Manager.

[FR Doc. 02-22392 Filed 8-30-02; 8:45 am]

BILLING CODE 4310-GG-P